DEPARTMENT OF HEALTH AND HUMAN SERVICES

Centers for Disease Control and Prevention

Mine Safety and Health Research Advisory Committee (MSHRAC)

AGENCY: Centers for Disease Control and Prevention (CDC), Department of Health and Human Services (HHS).

ACTION: Notice of meeting.

SUMMARY: In accordance with the Federal Advisory Committee Act, the CDC announces the following meeting for the Mine Safety and Health Research Advisory Committee (MSHRAC). This meeting is open to the public, limited only by the space available. The meeting room accommodates approximately 75 people. If you wish to attend in person or by phone, please contact Marie Chovanec by email at MChovanec@cdc.gov or by phone at 412-386-5302 at least 5 business days in advance of the meeting.

DATES: The meeting will be held on November 13, 2019, 8:45 a.m.-4:30 p.m., EDT and on November 14, 2019, 8:15 a.m.-12:00 p.m. EDT.

ADDRESSES: Atlanta Marriott Northeast/Emory Area, 2000 Century Boulevard NE, Atlanta, GA 30345 United States.

FOR FURTHER INFORMATION CONTACT: Jeffrey H. Welsh, Designated Federal Officer, MSHRAC, NIOSH, CDC, 626 Cochrans Mill Road, Pittsburgh, PA 15236, telephone 412-386-4040; email juw5@cdc.gov.

SUPPLEMENTARY INFORMATION:

Purpose: This committee is charged with providing advice to the Secretary, Department of Health and Human Services; the Director, CDC; and the Director, NIOSH, on priorities in mine safety and health research, including grants and contracts for such research, 30 U.S.C. 812(b)(2), Section 102(b)(2).

Matters To Be Considered: The agenda will include discussions on mining safety and health research projects and outcomes, including updates from two MSHRAC Workgroups, the Health Advisory in the Mining Program (HAMP) workgroup and the Metal Mining Automation and Advanced Technologies (MMAAT) workgroup, external review of the NIOSH Mining program recommendations, NIOSH Mining Program strategic plan update, update on acquiring a replacement for the Lake Lynn Experimental Mine, proximity detection research, corrosion research, update on miner health data sources and analyses, update on fatigue research, update on EOS-RCS monitoring method, and canopy air curtain research. The meeting will also include updates from the NIOSH Associate Director for Mining, the Spokane Mining Research Division, and the Pittsburgh Mining Research Division. Agenda items are subject to change as priorities dictate.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2019-21581 Filed 10-3-19; 8:45 am]

BILLING CODE 4163-18-P